DEPARTMENT OF COMMERCE

National Technical Information Service

15 CFR Part 1110

[Docket Number: 150121002-4999-03]

RIN 0692-AA21

Certification Program for Access to the Death Master File

AGENCY: National Technical Information Service, U.S. Department of Commerce.

ACTION: Notice of Proposed Rulemaking; Extension of Comment Period.

SUMMARY: The National Technical Information Service (NTIS) extends the period for public comment on the Notice of Proposed Rulemaking; Request for Comments, “Certification Program for Access to the Death Master File” from January 29, 2015, to March 30, 2015.

DATES: Comments are due on this proposed rule on March 30, 2015. Comments received after January 29, 2015 and before publication of this notice are deemed to be timely.

ADDRESSES: Written comments on this proposed rule must be submitted via http://www.regulations.gov. Comments sent by any other method, to any other address or individual, or received after the end of the comment period, may not be considered. All comments received are a part of the public record and will generally be posted for public viewing on www.regulations.gov without change. However, comments that contain profanity, vulgarity, threats, or other inappropriate language will not be posted. All personal identifying information (e.g., name, address) submitted voluntarily by the sender will be publicly accessible. Do not submit confidential business information, or otherwise sensitive or protected information. Attachments to electronic comments will be accepted in Microsoft Word or Excel, WordPerfect, or Adobe PDF formats only.

FOR FURTHER INFORMATION CONTACT: Henry Wixon, Chief Counsel for NIST, at henry.wixon@nist.gov, or by telephone at 301-975-2803. Information about the DMF made available to the public by NTIS may be found at https://dmf.ntis.gov.

SUPPLEMENTARY INFORMATION: The National Technical Information Service (NTIS) issued a notice of proposed rulemaking and request for comments on December 30, 2014 (79 FR 78314) (Notice), for a program pursuant to Section 203 of the Bipartisan Budget Act of 2013 (Act) through which persons may become “certified” and thereby be eligible to obtain access to Death Master File (DMF) information about an individual within three years of that individual's death for legitimate fraud prevention interest or a legitimate business purpose. The Notice requested public comment on the Proposed Final Rule, and set a period for comment which was scheduled to end on January 29, 2015. NTIS received requests from interested parties to extend this comment period, and in response extends the public comment period to March 30, 2015.

Dated: January 23, 2015.
Bruce Borzino,
Director.

[FR Doc. 2015-01546 Filed 1-27-15; 8:45 am]

BILLING CODE 3510-04-P